DEPARTMENT OF EDUCATION

Office of Vocational and Adult Education

Overview Information; Smaller Learning Communities Program Notice Inviting Applications for New Awards for Fiscal Year (FY) 2004 and Subsequent Years' Funds

Catalog of Federal Domestic Assistance (CFDA) Number: 84.215L.

DATES: Applications Available: April 28, 2005.

Deadline for Transmittal of Applications: June 7, 2005.

Deadline for Intergovernmental Review: August 11, 2005.

Eligible Applicants: Local educational agencies (LEAs), including schools funded by the Bureau of Indian Affairs and educational service agencies, applying on behalf of large public high schools, are eligible to apply for a grant.

An LEA that was awarded an implementation grant on behalf of a school under the original SLC program competition held in 2000 (Cohort 1) or the second competition, which was held in 2002 (Cohort 2) may apply on behalf of the school for a second SLC grant under the terms set forth in the notice of final priority, requirements, definitions, and selection criteria for fiscal year (FY) 2004 and subsequent years' funds (NFP), published elsewhere in this issue of the Federal Register. LEAs that received funding on behalf of schools for an SLC implementation grant(s) under the competitions held in 2003 (Cohort 3) and 2004 (Cohort 4) may not apply on behalf of those same schools for a grant in this competition.

Additional eligibility requirements are listed in the Eligibility section of the Application Requirements in the NFP, published elsewhere in this issue of the Federal Register.

Estimated Available Funds: $125,269,000.

Estimated Range of Awards: $650,000 to $11,750,000. See also the chart under Section II. Award Information. Additional information regarding awards and budget determination is in the Budget Information for Determination of Award section in the Application Requirements in the NFP, published elsewhere in this issue of the Federal Register.

Estimated Size of Award: LEAs may receive, on behalf of a single school, up to $1,175,000, depending upon the size of the school, during the 60-month project period. LEAs applying on behalf of a group of eligible schools could receive up to $11,750,000 per grant. To ensure that sufficient funds are available to support SLC activities, LEAs may not include more than 10 schools in a single application for a grant. The actual size of awards will be based on a number of factors. These factors include the scope, quality, and comprehensiveness of the proposed project and the range of awards indicated in the application.

Maximum Award: Applications that request more funds than the maximum amounts specified for any school or for the total grant will not be read as part of the regular application process. However, if after the Secretary selects applications to be funded, it appears that additional funds remain available, the Secretary may choose to read those additional applications that requested funds exceeding the maximum amounts specified. If the Secretary chooses to fund any of those additional applications, applicants will be required to work with the Department to revise their proposed budgets to fit within the appropriate funding range.

Estimated Number of Awards: 150.

Note: The Department is not bound by any estimates in this notice.

Project Period: Up to 60 months.

Full Text of Announcement

I. Funding Opportunity Description

Purpose of Program: The purpose of the Smaller Learning Communities (SLC) program is to promote academic achievement through the creation or expansion of small, safe, and successful learning environments in large public high schools to help ensure that all students graduate with the knowledge and skills necessary to make successful transitions to college and careers.

Priority: This competition includes one absolute priority. The priority is from the NFP, published elsewhere in this issue of the Federal Register.

Absolute Priority: For this competition, the priority is an absolute priority. Under 34 CFR 75.105(c)(3) we consider only applications that meet this priority.

The priority is:

Absolute Priority: Helping All Students to Succeed in Rigorous Academic Courses.

This priority supports projects to create or expand SLCs that will implement a coherent set of strategies and interventions that are designed to ensure that all students who enter high school with reading/language arts and mathematics skills that are significantly below grade level “catch up” quickly so that, by no later than the end of the 10th grade, they have acquired the reading/language arts and mathematics skills they need to participate successfully in rigorous academic courses that will equip them with the knowledge and skills necessary to transition successfully to postsecondary education, apprenticeships, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Application Requirements: Additional requirements for all projects funded through this competition are in the NFP, published elsewhere in this issue of the Federal Register.

These additional requirements are: Eligibility; School Report Cards; Types of Grants; Consortium Applications and Educational Service Agencies; Budget Information for Determination of Award; Student Placement; Including All Students; Performance Indicators; Evaluation; High-Risk Status and Other Enforcement Mechanisms; Required Meetings Sponsored by the Department; and Previous Grantees.

Definitions: In addition to the definitions in the authorizing statute and 35 CFR 77.1, the definitions in the NFP, published elsewhere in this issue of the Federal Register, apply.

Program Authority: 20 U.S.C. 7249.

Applicable Regulations: (a) The Education Department General Administrative Regulations (EDGAR) in 34 CFR parts 75, 77, 79, 80, 81, 82, 84, 85, 86, 97, 98, and 99, and (b) the priority, requirements, definitions, and selection criteria contained in the NFP, published elsewhere in this issue of the Federal Register.

Note: The regulations in part 79 apply to all applicants except federally recognized Indian tribes.

II. Award Information

Type of Award: Discretionary grants.

Estimated Available Funds: $125,269,000.

Estimated Range of Awards: $650,000 to $11,750,000. The following chart provides the ranges of awards per high school size for 60-month SLC grants:

SLC Grant Award Ranges
Student enrollment | Award ranges per school
1,000-2,000 Students | $650,000-$800,000
2,001-3,000 Students | $650,000-$925,000
3,001-4,000 Students | $650,000-$1,050,000
4,001 and Up | $650,000-$1,175,000

Additional information regarding awards and budget determination is in the Budget Information for Determination of Award section in the Application Requirements in the NFP, published elsewhere in this issue of the Federal Register.

Estimated Size of Award: LEAs may receive, on behalf of a single school, up to $1,175,000, depending upon the size of the school, for the full 60-month project period. LEAs applying on behalf of a group of eligible schools may receive up to $11,750,000 per grant. To ensure that sufficient funds are available to support SLC activities, LEAs may not include more than 10 schools in a single application for a grant. The actual size of awards will be based on a number of factors. These factors include the scope, quality, and comprehensiveness of the proposed project and the range of awards indicated in the application.

Maximum Award: Applications that request more funds than the maximum amounts specified for any school or for the total grant will not be read as part of the regular application process. However, if after the Secretary selects applications to be funded, it appears that additional funds remain available, the Secretary may choose to read those additional applications that requested funds exceeding the maximum amounts specified. If the Secretary chooses to fund any of those additional applications, applicants will be required to work with the Department to revise their proposed budgets to fit within the appropriate funding range.

Estimated Number of Awards: 150.

Note: The Department is not bound by any estimates in this notice.

Project Period: Up to 60 months.

III. Eligibility Information

1. Eligible Applicants: Local educational agencies (LEAs), including schools funded by the Bureau of Indian Affairs and educational service agencies, applying on behalf of large public high schools, are eligible to apply for a grant.

An LEA that was awarded an implementation grant on behalf of a school under the original SLC program competition held in 2000 (Cohort 1) or the second competition, which was held in 2002 (Cohort 2) may apply on behalf of the school for a second SLC grant under the terms set forth in this notice. LEAs that received funding on behalf of schools for an SLC implementation grant(s) under the competitions held in 2003 (Cohort 3) and 2004 (Cohort 4) may not apply on behalf of those same schools for a grant in this competition.

Additional eligibility requirements are listed in the Eligibility section of the Application Requirements in the NFP, published elsewhere in this issue of the Federal Register.

2. Cost Sharing or Matching: This competition does not involve cost sharing or matching.

IV. Application and Submission Information

1. Address to Request Application Package: Deborah Williams, U.S. Department of Education, OVAE, 400 Maryland Avenue, SW., Potomac Center Plaza, room 11064, Washington, DC 20202-7241. Telephone: (202) 245-7770 or via Internet: deborah.williams@ed.gov.

If you use a telecommunications device for the deaf (TDD), you may call the Federal Relay Service (FRS) at 1-800-877-8339.

You may also obtain an application package via Internet from the following address: http://www.ed.gov/programs/slcp/applicant.html.

Individuals with disabilities may obtain a copy of the application package in an alternative format (e.g., Braille, large print, audiotape, or computer diskette) by contacting the program contact person listed in this section.

2. Content and Form of Application Submission: To be considered for funding, LEAs must identify in their applications the name(s) of the eligible large high school(s) and the number of students enrolled in each school. A large high school is defined as one having grades 11 and 12, with 1,000 or more students enrolled in grades 9 and above. Enrollment figures must be based upon data from the current school year or data from the most recently completed school year. We will not accept applications from LEAs applying on behalf of schools that are being constructed and do not have an active student enrollment at the time of application. LEAs may apply on behalf of no more than 10 schools. Additional requirements concerning the content of an application are in the NFP for this program, published elsewhere in this issue of the Federal Register. These requirements, together with the forms you must submit, also are in the application package for this competition.

3. Submission Dates and Times:

Applications Available: April 28, 2005.

Applications for grants under this competition must be submitted by mail or hand delivery. For information (including dates and times) about how to submit your application by mail or hand delivery, please refer to section IV. 6. Other Submission Requirements in this notice.

We do not consider an application that does not comply with the deadline requirements.

Deadline for Intergovernmental Review: August 11, 2005.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted in paper format by mail or hand delivery.

a. Submission of Applications by Mail

If you submit your application by mail (through the U.S. Postal Service of a commercial carrier), you must mail the original and three copies of your application, on or before the application deadline date, to the Department at the applicable following address:

By mail through the U.S. Postal Service:

U.S. Department of Education, Application Control Center, Attention: (CFDA Number 84.215L), 400 Maryland Avenue, SW., Washington, DC 20202-4260; or—

By mail through a commercial carrier:

U.S. Department of Education, Application Control Center—Stop 4260, Attention: (CFDA Number 84.215L), 7100 Old Landover Road, Landover, MD 20785-1506.

Regardless of the address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

b. Submission of Applications by Hand Delivery

If you submit your application by hand delivery, you or a courier service) must deliver the original and three copies of your application, by hand, on or before the application deadline date, to the Department at the following address:

U.S. Department of Education, Application Control Center, Attention: (CFDA Number 84.215L), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 days from the application deadline date, you should call the U.S. Department of Education Application Control Center at (202) 245-6288.

V. Application Review Information

Selection Criteria: The selection criteria for this competition are in the NFP published elsewhere in this issue of the Federal Register, and in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

Note: Requirements listed in the NFP published elsewhere in this issue of the Federal Register are material requirements. Failure to comply with any requirement or with any elements of the grantee's application would subject the grantee to administrative action, including but not limited to designation as a “high-risk” grantee, the imposition of special conditions, or termination of the grant. Circumstances that might cause the Department to take such action include, but are not limited to: the grantee showing a decline in student achievement after two years of implementation of the grant; the grantee's failure to make substantial progress in completing the milestones outlined in the management plan included in the application; and the grantee's expenditure of funds in a manner that is inconsistent with the budget as submitted in the application.

3. Reporting: At the end of your project period, you must submit a final performance report, including financial information, as directed by the Secretary. You must submit an annual performance report that provides the most current performance and financial expenditure information as specified by the Secretary in 34 CFR 75.118. Additional reporting requirements are in the NFP, published elsewhere in this issue of the Federal Register.

4. Performance Measures: We require applicants to identify in their application specific performance indicators and annual performance objectives for each of these indicators. Specifically, we require applicants to use the following performance indicators to measure the progress of each school:

(1) The percentage of students who score at the proficient and advanced levels on the reading/language arts and mathematics assessments used by the State to determine whether a school has made adequate yearly progress under part A of title I of the Elementary and Secondary Education Act of 1965 (20 U.S.C. 7249), as amended by Public Law 107-110, the No Child Left Behind Act of 2001, as well as these percentages disaggregated by subject matter and the following subgroups:

(A) Major racial and ethnic groups;

(B) Students with disabilities;

(C) Students with limited English proficiency; and

(D) Economically disadvantaged students.

(2) The school's graduation rate, as defined in the State's approved accountability plan for Part A of title I of the ESEA;

(3) The percentage of graduates who enroll in postsecondary education, apprenticeships, or advanced training for the semester following graduation;

(4) The percentage of graduates who are employed by the end of the first quarter after they graduate (e.g., for students who graduate in May or June, this would be September 30);

(5) Other appropriate indicators the LEA may choose to identify in its application, such as rates of average daily attendance and year-to-year retention; achievement and gains in English proficiency of limited English proficient students; the incidence of school violence, drug and alcohol use, and disciplinary actions; or the percentage of students completing advanced placement courses and the rate of passing advanced placement tests (such as Advanced Placement and International Baccalaureate) and courses for college credit.

Applicants are required to include in their applications baseline data for each of these indicators and identify performance objectives for each year of the project period. We further require recipients of grants to report annually on the extent to which each school achieves its performance objectives for each indicator during the preceding school year. We require grantees to include in these reports comparable data, if available, for the preceding three school years so that trends in performance will be more apparent.

VII. Agency Contact

FOR FURTHER INFORMATION CONTACT: Deborah Williams, U.S. Department of Education, OVAE, 400 Maryland Avenue, SW., Potomac Center Plaza, room 11064, Washington, DC 20202-7241. Telephone: (202) 245-7770 or via Internet: deborah.williams@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 22, 2005.
Susan Sclafani,
Assistant Secretary for Vocational and Adult Education.

[FR Doc. 05-8513 Filed 4-27-05; 8:45 am]

BILLING CODE 4000-01-P